DEPARTMENT OF EDUCATION

[CFDA No.: 84.214A]

Migrant Education Even Start Program

AGENCY: Department of Education.

Notice inviting applications for new awards for fiscal year (FY) 2002.

Note to Applicants: This notice is a complete application package. Together with the statute authorizing the program and the Education Department General Administrative Regulations, the notice contains all of the information, application forms, and instructions needed to apply for a grant under this competition.

Purpose of Program: The Migrant Education Even Start (MEES) program is designed to help break the cycle of poverty and improve the literacy of participating migratory families by integrating early childhood education, adult literacy or adult basic education (including English language training, as appropriate), and parenting education into a unified family literacy program.

Eligible Applicants: While any entity is eligible to apply for a grant under the MEES program, the Assistant Secretary for Elementary and Secondary Education specifically invites applications from State educational agencies (SEAs) that administer migrant education programs; local educational agencies (LEAs) that have a high percentage of migratory students; non-profit community-based organizations that work with migratory families; and faith-based organizations, provided that they meet all statutory and regulatory requirements.

The Assistant Secretary also invites applications from novice applicants. “Novice applicant” means any applicant for a grant from the U.S. Department of Education (the Department) that has never received a grant or subgrant under the MEES program; has never been a participant in a group application, submitted in accordance with sections 75.127-75.129 of the Education Department General Administrative Regulations (EDGAR), that received a grant under the program from which it sought funding; and has not had an active discretionary grant from the Federal Government in five years before the deadline date for applications under the MEES program. (34 CFR 75.225.)

The Assistant Secretary has determined that special consideration of novice applications is appropriate and will give competitive preference of 5 points to eligible novice applicants under the procedures in 34 CFR 75.105 (c)(2). In addition, before making a grant to a novice applicant, the Assistant Secretary imposes special conditions, if necessary, to ensure that the grant is managed effectively and project objectives are achieved.

(Authority 20 U.S.C. 1221e-3 and 3474.)

Deadline for Transmittal of Applications: July 5, 2002.

Deadline for Intergovernmental Review: September 3, 2002.

Available Funds: For FY 2002, approximately $7,000,000 is available for this program.

Estimated Range of Awards: $75,000-$300,000.

Estimated Average Size of Awards: $250,000.

Estimated Number of Awards: 20-25.

Note: The Department is not bound by any estimates in this notice.

Project Period: 48 months.

Applicable Regulations:

(a) The Education Department General Administrative Regulations (EDGAR) in 34 CFR parts 75, 77, 79, 80, 81, 82, 85, 97, 98, and 99. (b) The definitions of a migratory child, a migratory agricultural worker and a migratory fisher contained in 34 CFR 200.40.

Waiver of Proposed Rulemaking: In the “Program Description” and “Required Program Elements” sections of this notice, the Assistant Secretary has interpreted provisions in ESEA sections 1231 and 1235 to require an emphasis on reading proficiency as the basis for academic success in program that underscores programs such as Reading First and Early Reading First.

It is the Assistant Secretary's practice, in accordance with the Administrative Procedure Act (5 U.S.C. 553), to offer interested parties the opportunity to comment on proposed rules and competitive preferences. Section 437(d)(1) of the General Education Provisions Act (GEPA), however, allows the Assistant Secretary to exempt from rulemaking requirements rules governing the first grant competition under a new or substantially revised program authority (20 U.S.C. 1232(d)(1)). The Assistant Secretary, in accordance with section 437(d)(1) of GEPA, has decided to forego public comment in order to ensure timely grant awards.

Description of Program: Under the authority of section 1232(a)(1)(A) of the Elementary and Secondary Education Act (ESEA), as amended by the No Child Left Behind Act of 2001, the Assistant Secretary awards grants to eligible applicants under the MEES program for projects that—

(1) Improve the educational opportunities of migratory families by integrating early childhood education, adult literacy or adult basic education (including English language training, as appropriate), and parenting education into a unified program of family literacy services.

(Note: Each project must use the grant funds to provide intensive family literacy services that involve parents and children, from birth through age seven, in a cooperative effort to help parents become full partners in the education of their children and to help children in reaching their full potential as learners. See ESEA section 1234(a).)

As defined in ESEA section 9101(20) “Family literacy services” means services provided to participants on a voluntary basis that are of sufficient intensity in terms of hours, and of sufficient duration, to make sustainable changes in a family, and that integrate all of the following activities:

(A) Interactive literacy activities between parents and their children.

(B) Opportunities for parents, the first teachers, to improve the academic achievement of the their children.

(C) Adult literacy training that advances parents reading achievement and academic success.

(D) An early childhood education that improves reading readiness and prepares children for success in school.

(2) Are implemented through cooperative projects that build on high-quality existing community resources to create a new range of services.

(3) Promote the academic achievement of children and adults.

(4) Assist children and adults from low-income families to achieve to challenging State content standards and challenging State student academic achievement standards; and

(5) Use instructional programs based on scientifically based reading research and the prevention of reading difficulties for children and adults.

Program Requirements:

Eligible participants. Eligible MEES participants consist of migratory children and their parents as defined in 34 CFR 200.30 and 200.40 who also meet the following conditions specified in ESEA, section 1236(a):

(1) The parent or parents—

(i) Are eligible for participation in an adult basic or adult secondary education program under the Adult Education and Family Literacy Act; or

(ii) Are younger than the State's compulsory school attendance age, as long as a local educational agency provides (or ensures the availability of) the basic education component MEES requires, or who are attending secondary school; and

(2) The child or children of the parent described in paragraph (c) must be younger than eight years of age.

(Note: Family members of eligible participants described in paragraphs (a)(1) and (a)(2) may also participate in MEES activities. These participants may include siblings, grandparents, and other family members so long as one or more eligible children and their parents or guardian participate in the core services. In addition, section 1236(b) of the ESEA, as amended, permits families to remain eligible for MEES services until all family members become ineligible to participate. For example, in the case of a family in which the parent or parents lose eligibility because of their educational advancement, the parent or parents can still participate in MEES activities until all children in the family reach age eight. When all children in the family have reached age eight, the family continues to be eligible for Even Start services for two more years (until the youngest participating child turns ten) or until the parents are no longer eligible for adult basic education under the Adult Education and Family Literacy Act, whichever occurs first. In addition, the Department interprets 34 CFR 200.30 together with ESEA section 1236(b)(3), to mean that MEES services may continue to be provided to a parent or child who is no longer migratory, provided that the family has at least one parent or child who is a migratory worker or migratory child as these terms are defined under 34 CFR 200.40.)

Required program elements. Any MEES project must, at a minimum, incorporate the following program elements specified in ESEA section 1235:

1. Identification and recruitment of migratory families most in need of MEES services, as indicated by a low level of income, a low level of adult literacy or English language proficiency of the eligible parent or parents, and other need-related indicators.

(Note: MEES program services may be provided in communities where migratory families have resided for extended periods of time. 34 CFR 200.30 and 200.40 permit children to be eligible for MEES services for up to three years after the children make a move that makes them eligible for the Migrant Education Program (MEP). However, in developing and using their need-related indicators to identify and recruit those families most in need of MEES program services, the Assistant Secretary believes that the most effective MEES projects are likely to focus on families that are highly mobile or who have only recently moved to the communities that projects propose to serve. In this regard, the MEP statute (section 1304(d) of the ESEA) requires that migratory students whose education has been interrupted and who are at most risk of failing be given a priority for the services that the program offers. While this MEP priority is not an explicit requirement of the MEES program, we assume, given the purpose of the MEES program, that those families receiving a priority under the MEP also have the greatest need for MEES services.)

2. Screening and preparation of children and parents, including teenage parents, to enable them to participate fully in program activities and services, including testing, referral to necessary counseling, and other developmental and support services.

3. High-quality, intensive instructional programs that teach reading skills and informs parents how to support the educational growth of their children; developmentally appropriate early childhood educational services; and preparation of children for success in the regular school programs.

4. Accommodation of participants' work schedules and other responsibilities, including the provision of support services necessary for participation in the activities, when such services are unavailable from other sources, such as—

(A) Scheduling and locating services to allow joint participation by parents and children;

(B) Child care for the period that parents are participating in the program provided under this part; and

(C) Transportation to enable parents and their children to participate in the MEES program;

5. Qualifications of project staff whose salaries are paid partially or totally with MEES or other federal Even Start funds. Projects must meet the following requirements:

(A) A majority of the staff providing academic instruction (1) must have obtained an associate's, bachelor's, or graduate degree in a field related to early childhood education, elementary or secondary school education, or adult education, and, (2) if applicable, must meet State qualifications for early childhood, elementary, or secondary school education, or adult education provided as part of an Even Start program or another family literacy program.

(i) By December 21, 2004, the individual responsible for MEES local project administration must have received training in the operation of a family literacy program; and

(ii) By December 21, 2004, paraprofessionals who provide support for academic instruction must have a high school diploma or its recognized equivalent.

6. Special training of staff, including childcare staff, to develop the skills necessary to work with parents and young children in the full range of instructional services that MEES offers.

7. Provision and monitoring of integrated instructional services to participating parents and children through home-based activities.

8. Operation on a year-round basis, including the provision of instructional and enrichment services, during the summer.

Note: For MEES projects, the Assistant Secretary interprets the requirement for year-round services to mean that project activities must be conducted throughout the period in which participating migratory families reside in the project area, and that alternative activities or services are offered when participating families work and reside outside the project area.

9. Recruitment and retention that encourages participating families to attend regularly and remain in the program for a period of time sufficient to meet their program goals.

10. Promotion of the continuity of family literacy, if applicable, to ensure that individuals retain and improve their educational outcomes.

11. Appropriate coordination with other ESEA programs, any relevant programs under the Adult Education and Family Literacy Act, the Individuals with Disabilities Education Act, Title I of the Workforce Investment Act of 1998, Head Start, volunteer literacy programs, and other relevant programs.

Note: In addition, to promoting strong community collaboration, ESEA sections 1232(e) and 1237(a) require applicants for grants under the SEA-administered Even Start Family Literacy program administered by SEAs to be partnerships composed of: (1) A local educational agency (LEA), and (2) a non-profit community-based organization, a public agency other than an LEA, an institution of higher education, or a public or private nonprofit organization of demonstrated quality other than an LEA. While these provisions are not requirements of the MEES program, the Assistant Secretary believes that the most effective MEES projects are also likely to contain strong, on-going collaborative relationships among these kinds of local entities.

12. Use of instructional programs based on scientifically based reading research (as defined in ESEA section 1208) for children and adults.

13. Include preschool reading skills for preschool children that are based on scientifically based reading research, to ensure that children enter school ready to learn to read.

14. Provide for an independent evaluation of the program to be used for program improvement.

Note: The Assistant Secretary encourages projects to use evaluators for MEES projects who understand the family literacy model, who are able to work with the project as a partner in designing the evaluation, and who will help the project use its on-going evaluation results in a way that ensures continuous program improvement.

Federal and local funding. A MEES project's funding is composed of both a Federal portion of funds (Federal share) and a portion contributed by the eligible applicant (local share). ESEA section 1234 states that the Federal share of the program may not exceed—

• 90 percent of the total cost of the project in the first year of the applicant's first project period;

• 80 percent in the second year;

• 70 percent in the third year;

• 60 percent in the fourth year;

• 50 percent in the fifth, sixth, seventh, and eighth years; and

• 35 percent in any following year.

Note: Applicants who are applying for continuations of MEES projects for the fifth year and beyond must meet the 50 per cent match in their fifth through eighth years and the 65 per cent local match in their ninth year and beyond.

The local share of the MEES project may be provided in cash or in kind, fairly evaluated, and may be obtained from any source, including other ESEA programs. Indirect costs are not an allowable cost either for the Federal share or the matching portion of a MEES project.

Invitational Priority

The Assistant Secretary is especially interested in receiving applications that include a plan demonstrating that grant activities will focus on one or more approaches described in this section. However, an application that meets one of more of these invitational priorities does not receive competitive or absolute preference over other applications (34 CFR 75.105(c)(1)).

Coordination across SEAs and LEAs is at the heart of migrant education's purpose: preventing or mitigating disruptions in the education of qualifying migratory students. Seasonal MEES projects may not be of sufficient duration to effect long-term gains for parents or students.

Therefore, to promote opportunities for continuous learning by migratory families, the Assistant Secretary is particularly interested in receiving applications that propose to do one or more of the following:

• Create Federal, State, and local partnerships that improve reading proficiency and advance English language acquisition so that migratory children enter elementary school with strong early reading skills.

• Plan long-range, intensive family literacy services that engage migrant families wherever they move outside the project area in order to eliminate disruptions in the education of participating families.

• Build networks with agricultural employers that will supplement resources available to develop English proficiency for migratory agricultural families with limited English or native-language literacy.

Selection Criteria

The Assistant Secretary uses the following selection criteria to evaluate applications for grants under this competition.

(1) The maximum score for all of these criteria is 100 points. However, novice applicants will be awarded an additional 5 points, which could result in a maximum score of 105 points.

(2) The maximum score for each criterion is indicated in parentheses.

(a) Meeting the purposes of the authorizing statute. (5 points)

The Assistant Secretary reviews each application to determine how well the project will—

(1) Improve the educational opportunities of migratory families by integrating early childhood education, adult literacy or adult basic education (including English language training, as appropriate), and parenting education into a unified family literacy program.

(2) Be implemented through cooperative projects that build on existing community resources to create a new range of services to migratory families.

(3) Promote the achievement of family literacy goals (particularly the goals that address school readiness, student achievement, adult literacy, and parent involvement and participation in their child's early education) through research-based reading and English-language acquisition practices that meet the diverse needs of the migrant community of learners.

(4) Assist children and adults from migratory families to achieve challenging State content standards and challenging State student academic achievement standards.

(b) Need for project. (15 points) The Assistant Secretary considers the need for the proposed project. In determining the need for the proposed project, the Assistant Secretary considers the following factors:

(1) The magnitude of the need for the services to be provided or the activities to be carried out by the proposed project.

(2) The extent to which the proposed project will focus on serving or otherwise addressing the needs of disadvantaged individuals (i.e., eligible migratory agricultural or fishing families).

(3) The extent to which specific gaps or weaknesses in services, infrastructure, or opportunities have been identified and will be addressed by the proposed project, including the nature and magnitude of those gaps or weaknesses.

Note: Applicants are free to address criterion (b) in any way that they wish. However, given the purpose of the MEES program, the Assistant Secretary believes that high-quality applications will likely include a discussion of the following key elements:

(i) Whether the project would be located in an area or areas with high percentages or large numbers of migratory children and their parents, guardians, or primary caretakers in need of MEES services.

(ii) How the project will address the lack of existing comprehensive family literacy services for the migrant population.

(iii) How community resources will be used to benefit project participants both during the participants' period of eligibility for migrant education services and in the event that participating families lose their eligibility for MEES services during the project period.

(iv) How the project will integrate age-appropriate early childhood education, adult literacy, parenting education activities, and interactive parent/child literacy activities.

(v) How the project will assist migratory children and adults to achieve the State content standards and student academic achievement standards.

Some migratory families may settle in a community during their enrollment, and thereafter, cease to be eligible. The Assistant Secretary believes that high-quality applications will likely include a plan for ensuring that these families have ongoing access to family literacy services when their enrollment can no longer be supported with basic MEP or MEES program funds. In this regard, an applicant might, for example, describe how the project will fill any gaps in services, or how it will connect families with existing resources or services if they settle in the community.

(c) Quality of the project design. (20 points) The Assistant Secretary considers the quality of the design of the proposed project. In determining the quality of the design of the proposed project, the Assistant Secretary considers the following factors:

(1) The extent to which the design of the proposed project is appropriate to, and will successfully address, the needs of the target population or other identified needs.

(2) The extent to which the project is designed to build capacity and yield results that will extend beyond the period of Federal financial assistance.

(3) The extent to which the proposed project will establish linkages with other appropriate agencies and organizations providing services to the target population.

(Note: Applicants are free to address criterion (c) in any way that they wish. However, the Assistant Secretary believes that, in designing their project, high-quality applications likely will address each of the required program elements in ESEA section 1235, and listed in the Program Requirements section of this notice. In this regard, the Assistant Secretary believes that a high-quality application likely would explain how its proposed design addresses each one of those requirements in order to meet the needs of the migratory families whom the project will serve.

For example, given the mobility of these families, the Assistant Secretary believes that high-quality applications will likely include strategies for maintaining family education services to migratory families after they have moved from the local community.

In addressing requirement number 8, that projects conduct family literacy services year-round, the Assistant Secretary acknowledges that migratory families may reside in communities for varying lengths of time. Therefore, the Assistant Secretary interprets that requirement to mean that grantees must provide project activities not only during the period in which participating migratory families reside in the project area but also at times when families travel or work outside the local community. The Assistant Secretary strongly encourages applicants to explore ways to maintain contact and continue to monitor the progress of highly mobile families whether or not they are resident in the applicant's community.

Examples of strategies that address this requirement for year-round operations and ongoing family participation include distance learning; capacity building and partnership efforts with sending and receiving States and school districts; self-paced learning packages; and other materials, technologies, and activities that make year-round literacy services viable and family-friendly for migrant workers.)

(d) Quality of project services. (15 points) The Assistant Secretary considers the quality of the services to be provided by the proposed project. In determining the quality of the services to be provided by the proposed project, the Assistant Secretary considers the quality and sufficiency of strategies for ensuring equal access and treatment for eligible project participants who are members of groups that have traditionally been underrepresented based on race, color, national origin, gender, age, or disability. In addition, the Assistant Secretary considers the following factors:

(1) The extent to which the services to be provided by the proposed project reflect up-to-date knowledge from scientifically based research and effective practice.

(2) The extent to which the training or professional development services to be provided by the proposed project are of sufficient quality, intensity, and duration to lead to improvements in practice among the recipients of those services.

(3) The likelihood that the services to be provided by the proposed project will lead to improvements in the achievement of students as measured against rigorous academic standards.

(e) Quality of Project Personnel. (10 points) The Assistant Secretary considers the quality of the personnel who will carry out the proposed project. In determining the quality of project personnel, the Assistant Secretary considers the extent to which the applicant encourages applications for employment from persons who are members of groups that have traditionally been underrepresented based on race, color, national origin, gender, age, or disability. In addition, the Assistant Secretary considers the qualifications, including relevant training and experience of key project personnel.

(Note: Applicants may answer criterion (e) in any way that seems reasonable. The Assistant Secretary believes that high quality applications will, at a minimum, address how projects will meet staffing, certification, training, and professional development requirements under ESEA section 1235(b)(5), and described in the PROGRAM REQUIREMENTS section of this notice.)

(f) Adequacy of resources. (15 points) The Assistant Secretary considers the adequacy of resources for the proposed project. In determining the adequacy of resources for the proposed project, the Assistant Secretary considers the following factors:

(1) The relevance and demonstrated commitment of each partner in the proposed project to the implementation and success of the project.

(2) The extent to which the costs are reasonable in relation to the objectives, design, and potential significance of the proposed project.

(3) The potential for continued support of the project after Federal funding ends, including, as appropriate, the demonstrated commitment of appropriate entities to such support.

(4) The extent to which costs are reasonable in relation to the number of persons to be served and the anticipated results and benefits.

(g) Quality of the project evaluation. (20 points) The Assistant Secretary considers the quality of the evaluation to be conducted of the proposed project.

In determining the quality of the evaluation, the Assistant Secretary considers the following factors:

(1) The extent to which the methods of evaluation provide for examining the effectiveness of project implementation strategies.

(2) The extent to which the methods of evaluation will provide performance feedback and permit periodic assessment of progress toward achieving intended outcomes.

(3) The extent to which the methods of evaluation are thorough, feasible, and appropriate to the goals, objectives, and outcomes of the proposed project.

(4) The extent to which methods of evaluation include the use of objective performance measures that are clearly related to the intended outcomes of the project and will produce quantitative and qualitative data to the extent possible.

(5) The extent to which the evaluation will provide guidance about effective strategies suitable for replication or testing in other settings.

Note: Applicants are free to address criterion (g) in any way they wish. However, ESEA section 1235(10), requires applicants to conduct an independent evaluation of their project. In addition, they must participate in the national Even Start data collection effort. Given these two requirements, the Assistant Secretary believes that high-quality applications are likely to address this criterion by explaining how the project will conduct an ongoing, independent, local evaluation to ensure that the quality of the proposed family literacy services is validated and improved over the course of the four-year project period.

In addition, the Assistant Secretary believes that high-quality applicants would likely bear in mind the following information in considering how they intend to report the effectiveness of their project. Funded projects are required to complete an annual performance report on their progress in meeting the approved objectives of their grant to ensure continued funding. These reports and other evaluation information provide local projects, the Department, and the Congress with objective data about the activities and services provided by the project, the participants served, the retention rates of those participants, and the success of the families in the project.

The Department has also developed a set of performance indicators for the Even Start Family Literacy Program in accordance with the Government Performance and Results Act (GPRA) that relate to participant outcomes and project management. The Department uses these indicators in reporting to the Congress on the overall effectiveness of the program. The Assistant Secretary will provide Migrant Education Even Start grantees with these indicators and technical assistance for responding to them.

The following items are not part of the program's selection criteria, but provide additional information for applicants.

National Evaluation

The Department is conducting a national evaluation of Even Start Family Literacy projects. MEES program grantees must cooperate with the Department's efforts by adopting an evaluation plan that is consistent with the national evaluation (as well as with the grantee's responsibilities under ESEA section 1235(10) and 34 CFR 74.51, 75.118, 75.253, and 80.40).

The Assistant Secretary suggests that projects designate appropriate funds for conducting their independent local evaluation, as well as resources to coordinate submissions of their local evaluation with annual performance reports. The Assistant Secretary also recommends that applicants budget for the cost of travel to Washington, DC and four nights' lodging for the project director, instructional services coordinator, and project evaluator, for their participation in annual technical assistance/evaluation meetings. The budget should also include a staff travel plan for training and professional development in the family literacy construct.

Information by project and budget periods. Under 34 CFR 75.112 and 75.117, an eligible applicant must propose a project period, and provide budgetary information for each budget period of that proposed project period. The Assistant Secretary requires that the budgetary information include an amount for all key project components with an accompanying breakdown of any subcomponents, along with a written justification for all requested amounts. (A form for reporting this information is contained in the appendix of this notice.)

Section 75.112(b) also requires that an applicant describe how and when, in each budget period of the project, it plans to meet each objective of the project.

Note: The Department will use this information, in conjunction with the grantee's annual performance report required under 34 CFR 75.118(a), to determine whether a continuation award for the subsequent budget year should be made. Under 34 CFR 75.253, a grantee can receive a continuation award only if it demonstrates that it either has made substantial progress toward meeting the objectives of the approved project, or has received the Assistant Assistant Secretary's approval of changes in the project to enable it to meet the objectives in the succeeding budget periods.

As indicated in the Note to the selection criterion (g) (Quality of project evaluation), each project must conduct an independent local evaluation. In budgeting for the cost of this independent local evaluation, you may wish to contact potential local evaluators, such as researchers or teachers at local community colleges or universities, to ascertain a typical hourly rate.

Intergovernmental Review of Federal Programs

This program is subject to the requirements of Executive Order 12372 (Intergovernmental Review of Federal Programs) and the regulations in 34 CFR part 79.

One of the objectives of the Executive Order is to foster an intergovernmental partnership and a strengthened federalism. The Executive Order relies on processes developed by State and local governments for coordination and review of proposed Federal financial assistance.

If you are an applicant, you must contact the appropriate State Single Point of Contact (SPOC) to find out about, and to comply with, the State's process under Executive Order 12372. If you propose to perform activities in more than one State, you should immediately contact the SPOC for each of those States and follow the procedure established in each State under the Executive order. You may view the latest official SPOC list on the Web site of the Office of Management and Budget at the following address: http://www.whitehouse.gov/omb/grants

In States that have not established a process or chosen a program for review, State, area-wide, regional, and local entities may submit comments directly to the Department.

Any State Process Recommendation and other comments submitted by a SPOC and any comments from State, areawide, regional, and local entities must be mailed or hand-delivered by the date indicated in this notice to the following address: The Assistant Secretary, E.O. 12372—CFDA# 84.214A, U.S. Department of Education, Room 7E200, 400 Maryland Avenue, SW., Washington, DC 20202-0125.

We will determine proof of mailing 34 CFR 75.102 (Deadline date for applications). Recommendations or comments may be hand-delivered until 4:30 p.m. (Washington, DC time) on the date indicated in this notice.

Please note that the above address is not the same address as the one to which the applicant submits its completed application. Do not send applications to the above address.

Application Instructions and Forms

The appendix to this application is divided into three parts plus a statement regarding estimated public reporting burden and various assurances and certifications. These parts and additional materials are organized in the same manner that the submitted application should be organized. The parts and additional materials are as follows:

Part I: Application for Federal Assistance (Standard Form 424) and instructions. Novice applicants identify themselves in item number six (6) on the form.

Part II: Budget Information—Non-Construction Programs (ED Form No. 524) and instructions.

Part III: Application Narrative.

Additional Materials:

Estimated Public Reporting Burden.

Assurances—Non-Construction Programs (Standard Form 424B).

Certifications regarding Lobbying; Debarment, Suspension, and Other Responsibility Matters; and Drug-Free Workplace Requirements (ED 80-0013, 12/98).

Certification regarding Debarment, Suspension, Ineligibility and Voluntary Exclusion: Lower Tier Covered Transactions (ED 80-0014, 9/90) and instructions.

Note: ED 80-0014 is intended for the use of grantees and should not be transmitted to the Department.

Disclosure of Lobbying Activities (Standard Form LLL) (if applicable) and instructions; and Disclosure of Lobbying Activities Continuation Sheet (Standard Form LLL-A).

You may submit information on a photocopy of the application and budget forms, the assurances, and the certifications. However, the application form, the assurances, and the certifications must each have an original signature. No grant may be awarded unless a completed application form has been received.

Individuals with disabilities may obtain this document in an alternative format (e.g., Braille, large print, audiotape, or computer diskette) on request to the contact person listed under FOR FURTHER INFORMATION CONTACT.However, the Department is not able to reproduce in an alternative format the standard forms included in the application package.

For Further Information Contact: DonnaMarie Marlow, U.S. Department of Education, Office of Elementary and Secondary Education, Office of Migrant Education, 400 Maryland Avenue, SW., Room 3E313, Washington, DC 20202-6135. Telephone: (202) 260-1164. The program contact may also be reached via e-mail at donnamarie.marlow@ed.gov. If you use a telecommunications device for the deaf (TDD), you may call the Federal Information Relay Service (FIRS) at 1-800-877-8339.

Instructions for Transmittal of Applications

An application for an award may be submitted by regular mail, or hand delivery.

(a) If an applicant wants to apply for a grant, an applicant must—

(1) Mail the original and two copies of the application on or before the deadline date to: U. S. Department of Education, Application Control Center, Attention: (CFDA #84.214A) Washington, DC 20202-4725 or

(2) Hand deliver the original and two copies of the application by 4:30 p.m. (Washington, DC time) on the deadline date to: U.S. Department of Education, Application Control Center, Attention: (CFDA# 84.214A), Room #3633, Regional Office Building #3, 7th and D Streets, SW., Washington, DC 20202

(b) An applicant must show one of the following as proof of mailing:

(1) A legibly dated U.S. Postal Service postmark.

(2) A legible mail receipt with the date of mailing stamped by the U.S. Postal Service.

(3) A dated shipping label, invoice, or receipt from a commercial carrier.

(4) Any other proof of mailing acceptable to the Assistant Secretary.

(c) If an application is mailed through the U.S. Postal Service, the Assistant Secretary does not accept either of the following as proof of mailing:

(1) A private metered postmark.

(1) A mail receipt that is not dated by the U.S. Postal Service.

Notes: (1) The U.S. Postal Service does not uniformly provide a dated postmark. Before relying on this method, an applicant should check with its local post office.

(2) The Application Control Center will mail a Grant Application Receipt Acknowledgment to each applicant. If an applicant fails to receive the notification of application receipt within 15 days from the date of mailing the application, the applicant should call the U.S. Department of Education Application Control Center at (202) 708-9494.

(3) The applicant must indicate on the envelope and—if not provided by the Department—in Item 10 of the Application for Federal Assistance (Standard Form 424) the CFDA number—and suffix letter, if any—of the competition under which the application is being submitted.

(4) Guidelines provided for hand delivered applications are applicable to applications delivered by express delivery services. There is a 4:30 p.m. (Washington, D.C. time) deadline for receipt of express delivery services.

(5) Items mailed through the U.S. Post Office to the U.S. Department of Education is subject to rerouting and special processing at other U.S. postal facilities. These special circumstances have and can delay the mail for up to two months. It is recommended that applicants use electronic or express delivery services for the transmission of their applications to ensure timely delivery and processing.

Electronic Access to This Document

You may view this document, as well as all other Department of Education documents published in the Federal Register, in text or portable document format (PDF) on the Internet at either of the following site: www.ed.gov/legislation/FedRegister/

To use PDF you must have the Adobe Acrobat Reader, which is available free at this site. If you have questions about using the PDF, call the U.S. Government Printing Office (GPO), toll free at 1-888-293-6498; or in the Washington, DC area at (202) 512-1530.

Note: The official version of this document is the document published in the Federal Register. Free Internet access to the official edition of the Federal Register and the Code of Federal Regulations is available on GPO Access at: http://www.access.gpo.gov/nara/index.html

Program Authority: 20 U.S.C. 6381(a)(1)(a).

Dated: May 15, 2002.
Susan B. Neuman,
Assistant Secretary for Elementary and Secondary Education.

Instructions for Part III—Application Narrative

Before preparing the Application Narrative, an applicant should read carefully the description of the program and the selection criteria the Assistant Secretary uses to evaluate applications.

The narrative should encompass each function or activity for which funds are being requested and should—

1. Begin with an Abstract; that is, a summary of the proposed project.

2. Describe the proposed project in light of each of the selection criteria in the order in which the criteria are listed in this application package.

(Note: While applicants can address the criteria in any way that is reasonable, given the required emphasis of any MEES project on an integrated program of early childhood education, adult literacy or adult basic education, and parenting education, the Assistant Secretary believes that a reasonable plan of operation would likely address how the proposed project will provide high-quality instruction in these three areas that, with interactive literacy activities between parents and children (PACT), is integrated into a unified family literacy program. Moreover, consistent with 34 CFR 75.112(b), which requires that the application describe how and when, in each budget period, the applicant plans to meet each project objective, the Assistant Secretary believes that applicants would want particularly to describe each goal in terms of measurable objectives, specific activities that are proposed to meet each objective, time lines associated with these activities, the resources believed to be needed to achieve each objective, and how each objective will be evaluated.)

3. Provide the following information in response to the attached “NOTICE TO ALL APPLICANTS”: (1) a reference to the portion of the application in which the applicant has described the steps that the applicant proposes to take to remove barriers to equitable access to, and equitable participation in, project activities; or (2) a separate statement that includes this information.

4. Include any other pertinent information that might assist the Assistant Secretary in reviewing the application.

Page Limit: The application narrative (Part III of the application) is where the applicant addresses the selection criteria reviewers use to evaluate your application. The recommended page limit for this application is 50 pages (appendices excepted), using the following standards:

• A page is 8.5″ x 11″, on one side only, with 1″ margins at the top, bottom, and both sides.

• Double space (no more than three lines per vertical inch) all text in the application narrative, including titles, headings, footnotes, quotations, references, and captions, as well as all text in charts, tables, figures, and graphs.

• Use a font that is either 12-point or larger or no smaller than 10 pitch (characters per inch).

The page limit does not apply to part I, the cover sheet; Part II, the budget section, including the narrative budget justification; Part IV, the assurances and certifications; or the one-page abstract, the resumes, the bibliography, or the letters of support. However, you must include all of the application narrative in Part III.

Instruction for Estimated Public Reporting Burden

According to the Paperwork Reduction Act of 1995, no persons are required to respond to a collection of information unless it displays a valid OMB control number. The valid OMB control number for this information collection is 1810-0541. (Expiration date: 04/30/2003). The time required to complete this information collection is estimated to average 60 hours per response including the time for reviewing instructions, searching existing data sources, gathering and maintaining the data needed, and completing and reviewing the collection of information. If you have any comments concerning the accuracy of the time estimate(s) or suggestions for improving this form, please write to: US Department of Education, Washington, DC 20202-4651. If you have comments or concerns regarding the status of your individual submission of this form, write directly to: Office of Migrant Education, US Department of Education, 400 Maryland Avenue, SW., Washington, DC 20202-6135.

(Information collection approved under OMB control number 1810—0541. Expiration date: 04/30/2003)

BILLING CODE 4000-01-P

[FR Doc. 02-12620 Filed 5-17-02; 8:45 am]

BILLING CODE 4000-01-C